GENERAL SERVICES ADMINISTRATION

48 CFR Part 502

[GSAR Case 2022-G517, Docket No. GSA-GSAR-2023-0028; Sequence No. 1]

RIN 3090-AK60

General Services Administration Acquisition Regulation; Reduction of Single-Use Plastic Packaging; Correction

AGENCY: Office of Acquisition Policy, General Services Administration (GSA).

ACTION: Final rule; correction.

SUMMARY: GSA is issuing a correction to GSAR Case 2022-G517, “Reduction of Single-use Plastic Packaging,” which published in the Federal Register on June 6, 2024. This correction makes an update to the definition “Packaging”.

DATES: Effective July 8, 2024.

FOR FURTHER INFORMATION CONTACT: Adina Torberntsson, adina.torberntsson@gsa.gov or call (720) 475-0568. Please cite GSAR Case 2022-G517; Correction.

SUPPLEMENTARY INFORMATION:

Correction

In rule FR Doc. 2024-12192, published in the Federal Register at 89 FR 48330, on June 6, 2024, on page 48336, in the second column, amendatory instruction 2, section 502.101, correct paragraph 3 of the definition of Packaging to read as follows:

502.101 [Corrected]

* * * * *

Packaging * * *

(3) Shipping packaging means packaging that serves as protection for the goods to ensure safe transport to the end customer, including:

(i) Ancillary packaging or transport packaging or tertiary packaging means packaging intended to secure the product, such as packing peanuts, wrapping materials, or molded materials. Ancillary packaging (or all shipping packaging) is typically outside of brand packaging.

(ii) Redundant packaging or unnecessary packaging means packaging that does not add any measurable protection to the supply being shipped, such as multiple layers of bubble wrap to an already durable product that is encased in a cardboard box. An example of this is a home testing kit with all plastic components already packaged in a cardboard box with cardboard inserts to absorb shock, that is then shipped in multiple layers of bubble wrap. In this example the bubble wrap is the redundant single-use plastic packaging.

* * * * *

Jeffrey A. Koses,
Senior Procurement Executive, Office of Acquisition Policy, Office of Government-wide Policy, General Services Administration.

[FR Doc. 2024-14683 Filed 7-3-24; 8:45 am]

BILLING CODE 6820-61-P